DEPARTMENT OF DEFENSE

Office of the Secretary

[Docket ID: DoD-2024-OS-0012]

Submission for OMB Review; Comment Request

AGENCY: Office of the Under Secretary of Defense for Personnel and Readiness (OUSD(P&R)), Department of Defense, (DoD).

ACTION: 30-Day information collection notice.

SUMMARY: The DoD has submitted to the Office of Management and Budget (OMB) for clearance the following proposal for collection of information under the provisions of the Paperwork Reduction Act.

DATES: Consideration will be given to all comments received by June 27, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, 571-372-7574, or whs.mc-alex.esd.mbx.dd-dod-information-collections@mail.mil.

SUPPLEMENTARY INFORMATION:

Title; Associated Form; and OMB Number: Workplace and Gender Relations Survey of Military Members; OMB Control Number 0704-0615.

Type of Request: Revision.

Number of Respondents: 204,300.

Responses per Respondent: 1.

Annual Responses: 204,300.

Average Burden per Response: 36 minutes.

Annual Burden Hours: 122,580.

Needs and Uses: The legal requirements for the Workplace and Gender Relations (WGR) surveys of military members can be found in the following:

• 10 U.S.C. 481

• Ronald W. Reagan National Defense Authorization Act (NDAA) for Fiscal Year (FY) 2005

• Public Law 111-383, Section 1631

• NDAA for FY 2013, Section 570

• 10 U.S.C. 2358

Sexual assault, sexual harassment, and gender discrimination remain a major concern across the DoD and for members of Congress. In February 2004, the Under Secretary of Defense for Personnel and Readiness (USD(P&R)) testified before the Senate Armed Services Committee on the prevalence of sexual assault in the DoD and the programs and policies planned to address the issues. In accordance with legislative requirements, the USD(P&R) issued memoranda to the Services that provides DoD policy guidance on sexual assault that included a new standard definition, response capability, training requirements, response actions, and reporting guidance throughout the Department. The Sexual Assault and Prevention Response Office supported implementation of the new policy and requires data to assess the prevalence of sexual assault in the Department and the effectiveness of the programs they have implemented.

The WGR surveys will assess the attitudes and opinions of military members on issues relating to sexual harassment, gender discrimination, and sexual assault, as well as the culture and climate of the units/organizations in which individuals serve. It will provide the policy offices of the USD(P&R) with current data on (1) the positive and negative trends for professional and personal relationships between Service members; (2) the specific types of assault that have occurred and the number of times in the preceding year; (3) the effectiveness of DoD policies designed to improve professional relationships between male and female Service members; (4) the effectiveness of current processes for complaints, reports, and investigations; and, (5) specific issues related to sexual harassment, sexual assault, and gender discrimination that may inform the Department's prevention and response efforts.

Affected Public: Individuals or households.

Frequency: Biennially (every other year).

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: May 22, 2024.
Aaron T. Siegel,
Alternate OSD Federal Register Liaison Officer, Department of Defense.

[FR Doc. 2024-11617 Filed 5-24-24; 8:45 am]

BILLING CODE 6001-FR-P